DEPARTMENT OF JUSTICE

Notice of Lodging of Settlement Agreement Under the Comprehensive Environmental Response, Compensation, and Liability Act and the Oil Pollution Act

On October 21, 2014, the Department of Justice lodged a proposed settlement agreement (the “Settlement Agreement”) with the United States Bankruptcy Court for the Southern District of New York in the bankruptcy case of Getty Petroleum Marketing Inc., and its affiliates (collectively, “Getty”), In re Getty Petroleum Marketing Inc., et al., Case No. 11-15606 (SCC). The Settlement Agreement relates to the Newtown Creek Superfund Site, located in Queens County and Kings County, New York (the “Newtown Creek Site”).

The parties to the proposed Settlement Agreement are the United States and the Liquidating Trust established in the bankruptcy. The Settlement Agreement provides for a $14,844,800 allowed general unsecured claim for the United States on behalf of EPA and a $1,155,200 allowed general unsecured claim for the United States on behalf of the U.S. Department of the Interior and the National Oceanic and Atmospheric Administration of the U.S. Department of Commerce (collectively, the “NRD Trustees”).

The Settlement Agreement resolves EPA's claims against debtors Getty Petroleum Marketing Inc. (“GPMI”) and Getty Terminals Corp. (“Getty Terminals”) for costs under the Comprehensive Environmental Response, Compensation, and Liability Act of 1980, as amended, 42 U.S.C 9601-75 (“CERCLA”), and the Oil Pollution Act, 33 U.S.C. 2702(a) (“OPA”), in connection with the Newtown Creek Site. The proposed Settlement Agreement also resolves the NRD Trustees' claims against GPMI and Getty Terminals under CERCLA and OPA for natural resource damages and costs of assessment in connection with the Newtown Creek Site. As part of the Settlement Agreement, GPMI, Getty Terminals, and the Liquidating Trust on behalf of GPMI and Getty Terminals will receive from the United States on behalf of EPA and the NRD Trustees a covenant not to file a civil action or take administrative action pursuant to sections 106 and 107 of CERCLA, 42 U.S.C. 9606, 9607, and section 1002(a) of OPA, 33 U.S.C. 2702(a), with respect to the Newtown Creek Site.

The publication of this notice opens a period for public comment on the Settlement Agreement. Comments should be addressed to the Assistant Attorney General, Environment and Natural Resources Division, and should refer to In re Getty Petroleum Marketing Inc., D.J. Ref. No. 90-7-1-10503. All comments must be received no later than thirty (30) days after the publication date of this notice. Comments may be submitted either by email or by mail:

To submit comments: | Send them to:
By email | Pubcomment-ees.enrd@usdoj.gov.
By mail | Assistant Attorney General, U.S. DOJ—ENRD, P.O. Box 7611, Washington, DC 20044-7611.

Public comments timely received will be filed on the public court docket.

During the public comment period, the Settlement Agreement may be examined and downloaded at this Department of Justice Web site: http://www.justice.gov/enrd/Consent_Decrees.html. We will provide a paper copy of the Settlement Agreement upon written request and payment of reproduction costs. Please mail your request and payment to:

Consent Decree Library,

U.S. DOJ—ENRD,

P.O. Box 7611,

Washington, DC 20044-7611.

Please enclose a check or money order for $3.75 (25 cents per page reproduction costs) payable to the United States Treasury.

Robert E. Maher, Jr.,
Assistant Section Chief, Environmental Enforcement Section, Environment and Natural Resources Division.

[FR Doc. 2014-25426 Filed 10-24-14; 8:45 am]

BILLING CODE 4410-15-P